ENVIRONMENTAL PROTECTION AGENCY

[EPA-HQ-OPP-2023-0457; FRL-11399-01-OCSPP]

Pesticides; Request for Stakeholder Input on the Proposed Design of a New Grant Program Regarding the Health Care Provider (HCP) Training Program; Notice of Availability and Opportunity for Comment

AGENCY: Environmental Protection Agency (EPA).

ACTION: Notice.

SUMMARY: The Environmental Protection Agency (EPA) is announcing the availability of a Request for Information (RFI) that seeks public comment on a proposed design for the new grant program related to the Health Care Provider (HCP) Training Program, a cooperative agreement to help medical professionals better prevent, recognize, treat, and manage pesticide-related illness. The Pesticide Registration Improvement Act of 2022 (referred to as PRIA 5) included set-asides of up to $2.5 million for fiscal years 2023-2027 to fund the HCP Training Program. PRIA 5 also requires EPA to seek input from persons who conduct farmworker education and training, or technical assistance and training of healthcare providers, to inform the design of the grant program. EPA has previously solicited input on the HCP Training Program design through its Federal advisory committees, which include representatives of these stakeholders. The purpose of this RFI is to solicit additional stakeholder feedback from a broad array of individuals and organizations with knowledge and expertise related to the goals of the HCP Training Program. Additional public input, including environmental justice perspectives, will help the Agency refine the HCP Training Program and design a grant program to more effectively support populations that have historically been at high risk from pesticide-related illness.

DATES: Submit your comments on or before November 24, 2023.

ADDRESSES: Submit your comments, identified by docket identification (ID) number EPA-HQ-OPP-2023-0457, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Aidan Black, Office of Chemical Safety and Pollution Prevention, Pesticide Re-evaluation Division (7508M), Environmental Protection Agency, 1200 Pennsylvania Ave. NW, Washington, DC 20460-0001; telephone number: 202-566-2381; email address: black.aidan@epa.gov.

SUPPLEMENTARY INFORMATION:

I. Executive Summary

A. Does this action apply to me?

This notice is directed to the general public and may be of specific interest to entities that conduct education and training of farmworkers, or technical assistance and training of healthcare providers (e.g., governmental and non-governmental organizations, non-profits, community-based organizations, academic institutions, research institutions, medical institutions, medical associations, community health centers and clinics, public health administration and environmental health administration programs, Indian Tribes, and private sector entities). Because others may also be interested in this notice, EPA has not attempted to describe all the entities that may be interested in the subject covered in this notice.

B. What is the Agency's authority for taking this action?

The Pesticide Registration Improvement Act of 2022 (referred to as PRIA 5), Public Law 117-328, amended the Federal Insecticide, Fungicide, and Rodenticide Act (FIFRA), 7 U.S.C. 136 et seq., to include up to $2,500,000 of set-aside funds for an HCP Training Program. Funds are for fiscal years 2023 through 2027.

Under PRIA section 703(a)(1)(H)(i), the HCP Training Program should provide grants to nonprofit organizations to help medical professionals better prevent, recognize, treat, and manage pesticide-related illness through technical assistance and training; the development of informational materials for technical assistance and training; and the development of outreach and delivery methods.

PRIA section 703(a)(1)(H)(ii) specifies that only nonprofit organizations with demonstrated experience in providing training and technical assistance to health care providers who serve farmworker populations are eligible to receive this funding.

C. Why is EPA taking this action?

This action satisfies PRIA section 703(a)(1)(K)(iv) which requires that EPA seek, in an open and transparent manner that does not provide a competitive advantage to any person or persons, input from persons who conduct farmworker education and training, or technical assistance and training of healthcare providers.

D. What should I consider as I prepare my comments?

1. Submitting CBI. Do not submit CBI to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Background

EPA previously solicited feedback from the Farmworker and Clinician Training Workgroup of the Pesticide Programs Dialogue Committee (PPDC), a Federal advisory committee group. The PPDC workgroup—which included representatives of community-based organizations that serve farmworkers, healthcare providers, and Indian Tribes; university extension programs; industry; State regulators; farm bureaus; other Federal agencies; and current grantees under EPA cooperative agreements—met monthly for most of a year and formulated a set of nine recommendations (the recommendations can be found at https://www.epa.gov/system/files/documents/2021-10/presentation-farmworker-and-clinician-training-workgroup-recommendations.pdf). The National Environmental Justice Advisory Council and the Children's Health Protection Advisory Committee provided related anecdotes and reiterated some of the recommendations of the PPDC workgroup. EPA has incorporated these recommendations into the proposed program design. The Request for Information (RFI), which is available in the docket, seeks additional feedback to build upon those recommendations.

III. Request for Public Comment

A. What feedback does EPA hope to gain from the public comments?

In the RFI, the Agency has proposed a design for the HCP Training Program and has posed a series of questions on that design. Generally, EPA is interested in comments about the types of activities the program could support; about populations at high risk of pesticide-related illness (and who would thus benefit from more highly trained clinicians); and about additional ways to ensure that training and technical assistance under the program accounts for the cultural context, social determinants of health, and vulnerabilities of those populations.

The project objectives are: (1) Administer a national training and technical assistance program to improve the prevention, recognition, treatment, management, and reporting of pesticide-related illness by HCP; and (2) Administer a partnership program to inform the Objective 1 activities and ensure they have both national reach and local applicability. Each objective has both subobjectives and suggested emphasis areas. For the complete program design, please consult the RFI. EPA's questions are as follows:

• How can EPA and future grantees expand upon the work done through previous cooperative agreements to build HCP capacity, capitalize on existing resources, and avoid duplicating efforts?

• What populations—besides farmworkers, pesticide handlers, and applicators—are at high risk of pesticide-related illness and would benefit from more highly trained HCPs?

• How can EPA ensure that activities under Objective 1 (training and technical assistance) are responsive to the social determinants of health, cultural context, and vulnerabilities of patients at high risk of pesticide-related illness?

• What steps can future grantees take to ensure that recognition, treatment, and management of pesticide-related illness continue to improve at local partner organizations after the project has concluded? What steps can they take to ensure that reporting continues to improve?

• What networks, organizations, and stakeholders are examples of collaborators under Objective 2 (partnership program)? Which could be effective at monitoring and evaluating the project?

• What are examples of activities that this cooperative agreement could support under Objective 1 (training and technical assistance)? Under Objective 2 (partnership program)?

• Do the objectives, as written, exclude any collaborators or activities that would support the program goals?

B. What is the request for information?

In addition to soliciting comment on the questions posed in Unit III.A. of this document, EPA is seeking stakeholder input on the RFI document that is available in the docket. Specifically, EPA is interested in comments about the types of activities the program could support; about populations at high risk of pesticide-related illness (and who would thus benefit from more highly trained clinicians); and about additional ways to ensure that training and technical assistance under the program accounts for the cultural context, social determinants of health, and vulnerabilities of these populations.

EPA encourages all potentially interested parties, including individuals, professional associations, governmental and non-governmental organizations, academic institutions, research institutions, medical institutions, non-profits, community-based organizations, Indian Tribes, and private sector entities to provide responses to any or all questions. To the extent possible, the Agency asks commenters to please cite any public data related to or that supports the responses, and to the extent permissible, describe any supporting data that is not publicly available.

Authority: 7 U.S.C. 136 et seq.

Dated: September 19, 2023.
Michal Freedhoff,
Assistant Administrator, Office of Chemical Safety and Pollution Prevention.

[FR Doc. 2023-20678 Filed 9-22-23; 8:45 am]

BILLING CODE 6560-50-P